DEPARTMENT OF LABOR

Mine Safety and Health Administration

Proposed Information Collection Request Submitted for Public Comment and Recommendations; Records of Results of Examinations of Self-Rescuers

ACTION: Notice.

SUMMARY: The Department of Labor, as part of its continuing effort to reduce paperwork and respondent burden conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed.

DATES: Submit comments on or before August 28, 2007.

ADDRESSES: Send comments to Melissa Stoehr, Acting Chief, Records Management Branch, 1100 Wilson Boulevard, Room 2134, Arlington, VA 22209-3939. Commenters are encouraged to send their comments on computer disk, or via e-mail to stoehr.melissa@dol.gov. Ms. Stoehr can be reached at (202) 693-9827 (voice), or (202) 693-9801 (facsimile).

FOR FURTHER INFORMATION CONTACT: Contact the employee listed in the ADDRESSES section of this notice.

SUPPLEMENTARY INFORMATION:

I. Background

The Self-Rescue devices are subjected to harsh in-mine conditions that may result in damage to the device which could cause the device to malfunction or provide less than adequate protection. The 90-day examination of the device is necessary in order to provide for early detection of potential problems that would otherwise go undetected. Requiring the mine operator to certify the examination was made and to record any identified defects gives credibility to the program and decreases the likelihood of a person being required to use a device that may not function as designed. In addition, this information is useful in determining how durable a device may be when subjected to the harsh conditions that are encountered during in-mine use. This allows for early detection of design problems that may require the manufacturer to make changes to a device in order to assure the device will continue to function as designed and provide adequate protection in the event of an emergency.

II. Desired Focus

Currently, the Mine Safety and Health Administration (MSHA) is soliciting comments concerning the proposed extension. MSHA is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

A copy of the proposed information collection request may be viewed on the internet by accessing the MSHA home page (http://www.msha.gov/) and choosing “Rules and Regs”, then choosing “Fed Reg Docs.”

III. Current Actions

Currently, the Mine Safety and Health Administration (MSHA) is soliciting comments concerning the proposed extension of the information collection related to examination and certification of self-rescue devices. Because of the rugged underground mining environment to which SCSRs are subjected, the potential for these devices being rendered inoperative is high. In the event of a mine fire, mine explosion, or mine inundation, the use of self-rescuers can be the difference between life and death. Therefore it is essential that these devices be examined regularly and that they are maintained in usable and operative condition. These minimum certification and recordkeeping requirements are necessary in order to maintain credibility in the program and provide reasonable assurance that mine operators conduct the required 90-day examination of the self-rescue devices. MSHA increased the inspection effort to include quarterly evaluation of the mine operators records as well as a physical examination of a representative number of self-rescue devices. On December 8, 2006, a new final rule entitled Emergency Mine Evacuation was published. The rule affected 30 CFR parts 48, 50, and 75. Specifically, the new rule affecting the estimate of the recordkeeping burdens imposed by 30 CFR 75.1714-3(e) is § 75.1714-4, Additional self-contained self-rescuers (SCSRs) which requires that in addition to the requirements in §§ 75.1714, 75.1714-1, 75.1714-2, and 75.1714-3, the mine operator shall provide for each person who is underground at least one additional SCSR device which provides protection for a period of one hour or longer, to cover all persons in the mine. Due to the large number of devices in use in the mining industry, (approximately 62,000 devices) it is essential that mine operators continue to certify that the 90-day examination was conducted on each device, and record the results for devices that failed the 90-day examination.

Type of Review: Extension.

Agency: Mine Safety and Health Administration.

Title: Records of Results of Examinations of Self-Rescuers.

OMB Number: 1219-0044.

Recordkeeping: One Year.

Affected Public: Business or other for-profit.

Total Respondents: 719.

Total Responses: 250,344.

Average Time per Response: 30 minutes.

Estimated Total Burden Hours: 124,375 hours.

Estimated Total Burden Cost: $0.

Total Burden Cost (operating/maintaining): $0.

Comments submitted in response to this notice will be summarized and/or included in the request for Office of Management and Budget approval of the information collection request; they will also become a matter of public record.

Dated at Arlington, Virginia, this 25th day of June, 2007.
David L. Meyer,
Director, Office of Administration and Management.

[FR Doc. E7-12524 Filed 6-28-07; 8:45 am]

BILLING CODE 4510-43-P